DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: November 17, 2022, 10:00 a.m.

PLACE: Room 2C, 888 First Street NE, Washington, DC 20426.

STATUS: Open to the public.

MATTERS TO BE CONSIDERED: Agenda.

* Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed on line at the Commission's website at https://elibrary.ferc.gov/eLibrary/search using the eLibrary link.

1095th—Meeting; Open Meeting
[November 17, 2022, 10:00 a.m.]
Item No. | Docket No. | Company
ADMINISTRATIVE
A-1 | AD23-1-000 | Agency Administrative Matters.
A-2 | AD23-2-000 | Customer Matters, Reliability, Security and Market Operations.
A-3 | AD07-13-016 | FY2022 Report on Enforcement.
ELECTRIC
E-1 | RD22-4-000 | Registration of Inverter-based Resources.
E-2 | RM22-12-000 | Reliability Standards to Address Inverter-Based Resources.
E-3 | RD22-5-000 | North American Electric Reliability Corporation.
E-4 | OMITTED |
E-5 | ER21-58-001 | TransAlta Energy Marketing (U.S.) Inc.
E-6 | ER21-2462-000 | Sempra Gas & Power Marketing, LLC.
E-7 | ER21-2457-000 | Tri-State Generation and Transmission Association, Inc.
E-8 | ER21-61-003 | El Paso Electric Company.
E-9 | ER21-2370-000 | Brookfield Renewable Trading and Marketing LP.
E-10 | ER21-2456-000 | Rainbow Energy Marketing Corporation.
E-11 | ER21-56-001 | Guzman Energy LLC.
E-12 | ER22-2516-000 | Chaves County Solar II, LLC.
E-13 | EL22-34-000 | Office of the Ohio Consumers' Counsel v. American Electric Power Service Corporation, American Transmission Systems, Inc., and Duke Energy Ohio, LLC.
E-14 | EC22-91-000 | CID Solar, LLC, Cottonwood Solar, LLC, Onward Solar Gen-Tie, LLC, and RE Columbia, LLC.
E-15 | EL21-56-000 | Lousiana Public Service Commission, Arkansas Public Commission, and Council of the City of New Orleans, Louisiana v. System Energy Resources, Inc., Entergy Services, LLC, Entergy Operations, Inc., and Entergy Corporation.
E-16 | EL19-96-000 | Cimarron Windpower II, LLC v. Southwest Power Pool, Inc.
E-17 | EL19-93-000 | Western Farmers Electric Cooperative v. Southwest Power Pool, Inc.
E-18 | ER18-2404-001 EL21-68-000 | Southwest Power Pool, Inc. Nebraska Public Power District.
E-19 | EL19-77-000 | Oklahoma Gas and Electric Company v. Southwest Power Pool, Inc.
E-20 | EL19-75-000 | EDF Renewables, Inc., Enel Green Power North America, Inc., NextEra Energy Resources, LLC, and Southern Power Company v. Southwest Power Pool, Inc.
E-21 | EL22-74-000 | Ameresco, Inc.
E-22 | ER18-1182-002 | System Energy Resources, Inc.
| EL17-41-000 | Arkansas Public Service Commission Mississippi Public Service Commission v. System Energy Resources, Inc.
| EL18-142-000 | Louisiana Public Service Commission v. System Energy Resources, Inc. Entergy Services, Inc.
| EL18-204-000, EL18-204-001 (consolidated) | Louisiana Public ion v. System Eergy Resources, Inc. Entergy Services, Inc.
| EL18-152-000 | Louisiana Public Service Commission v. System Energy Resources, Inc. Entergy Services, Inc.
| ER18-1182-000 | System Energy Resources, Inc.
| EL20-72-000 | Louisiana Public Service Commission Arkansas Public Service Commission Council of the City of New Orleans, Louisiana Mississippi Public Service Commission v. System Energy Resources, Inc. Entergy Services, LLC
| ER21-117-000, ER21-129-000, EL21-24-000, ER21-748-000, EL21-46-000, (consolidated) | System Energy Resources, Inc.
| EL21-56-000 | Louisiana Public Service Commission Arkansas Public Service Commission Council of the City of New Orleans, Louisiana v. System Energy Resources, Inc. Entergy Services, LLC Entergy Operations, Inc.
| ER22-958-000 | Entergy Corporation System Energy Resources, Inc.
GAS
G-1 | RM21-18-000 | Revised Filing and Reporting Requirements for Interstate Natural Gas Company Rate Schedules and Tariffs.
G-2 | RP21-1187-008 | Eastern Gas Tranmission and Storage, Inc.
HYDRO
H-1 | P-2082-063, P-14803-001 | PacifiCorp, Klamath River Renewal Corporation, State of Oregon, and State of California.
H-2 | P-15236-000 | Norton Pump Storage, LLC.
CERTIFICATES
C-1 | RM22-8-000 | Updating Regulations for Engineering and Design Materials for Liquefied Natural Gas Facilities Related to Potential Impacts Caused by Natural Hazards.
C-2 | CP19-502-000, CP19-502-001 | Commonwealth LNG, LLC.
C-3 | CP15-490-003 | Delfin LNG LLC.
C-4 | CP22-161-000 | Gulf South Pipeline Company, LLC.
C-5 | Omitted.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: November 10, 2022.
Kimberly D. Bose,
Secretary.

[FR Doc. 2022-25043 Filed 11-14-22; 4:15 pm]

BILLING CODE 6717-01-P